INTERNATIONAL TRADE COMMISSION

[Investigation No. 337-TA-953]

Certain Wireless Standard Compliant Electronic Devices, Including Communication Devices and Tablet Computers, Commission Determination Not To Review an Initial Determination Granting a Joint Motion To Terminate the Investigation on the Basis of Settlement; Termination of Investigation

AGENCY: U.S. International Trade Commission.

ACTION: Notice.

SUMMARY: Notice is hereby given that the U.S. International Trade Commission has determined not to review the presiding administrative law judge's (“ALJ”) initial determination (“ID”) (Order No. 48) granting the joint motion of complainants Ericsson Inc. of Plano, Texas, and Telefonaktiebolaget LM Ericsson of Stockholm, Sweden (collectively, “Ericsson”) and respondent Apple Inc. of Cupertino, California (“Apple”) to terminate the above-referenced investigation on the basis of a settlement agreement. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 3, 2015, based on a complaint filed by Ericsson. 80 FR 18255-56 (Apr. 3, 2015). The complaint alleges violations of section 337 of the Tariff Act of 1930, as amended, 19 U.S.C. 1337, in the importation into the United States, the sale for importation, or the sale within the United States after importation of certain wireless standard compliant electronic devices, including communication devices and tablet computers by reason of infringement of certain claims of U.S. Patent Nos. 8,717,996; 8,660,270; 6,058,359; 6,301,556; 8,102,805; 8,607,130; 8,837,381; and 8,331,476. The complaint further alleges the existence of a domestic industry. The Commission's Notice of Investigation names Apple as respondent. The Office of Unfair Import Investigations was also named as a party.

On January 19, 2016, Ericsson and Apple filed a second amended joint motion (“joint motion”) to terminate the Investigation on the basis of a settlement agreement. On January 22, 2016, the ALJ issued show cause Order No. 44, identifying several deficiencies with the motion. On January 29, 2016, Ericsson and Apple responded to Order No. 44 and filed a copy of their settlement agreement on January 29, 2016. Also on January 29, 2016, the Commission investigative attorney (“IA”) filed a response to the joint motion, supporting the motion to terminate with certain reservations regarding the filing of the settlement agreement and the redacted settlement agreement. On February 3, 2016, Ericsson and Apple filed a reply brief, addressing certain issues in the IA's response. Proceedings to resolve issues surrounding the scope of the redactions followed and the complaint agreement was filed.

On May 5, 2016, the ALJ issued the subject ID, granting the joint motion for termination of the investigation. The ALJ found that the joint motion complied with the requirements of Commission Rule 210.21(b)(1) and that granting the motion would not be contrary to the public interest. No petitions for review of the subject ID were filed.

The Commission has determined not to review the ID.

The authority for the Commission's determination is contained in section 337 of the Tariff Act of 1930, as amended (19 U.S.C. 1337), and in part 210 of the Commission's Rules of Practice and Procedure (19 CFR part 210).

By order of the Commission.
Issued: June 1, 2016.
Lisa R. Barton,
Secretary to the Commission.

[FR Doc. 2016-13350 Filed 6-6-16; 8:45 am]

BILLING CODE 7020-02-P